Title 3—

The President

Order of September 26, 2002

Designation Under Executive Order 12958

In accordance with the provisions of section 1.4 of Executive Order 12958 of April 17, 1995, entitled “Classified National Security Information,” I hereby designate the Secretary of Agriculture to classify information originally as “Secret.”

Any delegation of this authority shall be in accordance with section 1.4(c) of Executive Order 12958.

This order shall be published in the Federal Register.

B

THE WHITE HOUSE,

September 26, 2002.

[FR Doc. 02-24984

Filed 9-27-02; 8:46 am]

Billing code 3195-01-P